SMALL BUSINESS ADMINISTRATION

Delegations of Authority: Delegations of Authority No. 12-I

AGENCY: U.S. Small Business Administration.

ACTION: Notice of delegations of authority.

SUMMARY: This document provides public notice of the U.S. Small Business Administration (SBA) Administrator's delegations of authority to SBA's Office of Disaster Recovery and Resilience (ODR&R) for activities related to declaring and amending disaster declarations and overseeing and managing SBA's ODR&R offices and divisions. ODR&R leads the SBA's efforts to connect disaster survivors with lending and other assistance to help them prepare for and recover from a declared disaster.

FOR FURTHER INFORMATION CONTACT: Sharon Henderson, Office of Disaster Recovery and Resilience, 409 3rd Street SW, Washington, DC 20416; telephone number: (202) 205-6734; electronic mail: Disaster.Email@sba.gov.

SUPPLEMENTARY INFORMATION: This document provides public notice of the SBA Administrator's delegations of authority to SBA's Office of Disaster Recovery and Resilience's core work in disaster declarations and field response with a focus on economic recovery through enhanced coordination among all SBA programs.

Specifically, the Administrator is delegating authority to the Associate Administrator of ODR&R. All other delegations of authority for the purpose of administering SBA's Disaster Assistance Programs, remain as set forth in Delegation of Authority No. 12-D (Revision 3), to the extent that they are applicable.

Delegation of Authority No. 12-I reads as follows:

Delegation of Authority No. 12-I

I. The Administrator of the SBA, pursuant to the authority vested in her by the Small Business Act, 15 U.S.C. 631, as amended, hereby delegates the following authorities to:

A. The Associate Administrator of the Office of Disaster Recovery and Resilience (ODR&R) as follows:

1. To oversee and manage SBA's ODR&R offices, divisions, and programs.

2. To establish policy and procedures for all ODR&R programs.

3. To declare a disaster loan area in instances where the President has determined, pursuant to the Robert T. Stafford Disaster Relief and Emergency Assistance Act, a “major disaster” has occurred.

4. To declare a disaster loan area for Economic Injury Disaster loans aligned with the Secretary of Agriculture notification of a declared natural disaster.

5. To make a physical disaster declaration based on the occurrence of at least a minimum amount of physical damage to buildings, machinery, equipment, inventory, homes, and other property pursuant to Section 7(b) of the Small Business Act, as amended.

6. To make a physical disaster declaration for a rural area, upon request from the Governor of the State or the Chief Executive of the Indian Tribal government in which the rural area is located pursuant to Section 7(b) of the Small Business Act, as amended.

7. To make an economic injury disaster declaration in reliance on a state certification that small business concerns, private nonprofit organizations, or small agricultural cooperatives have suffered substantial economic injury pursuant to Section 7(b) of the Small Business Act, as amended.

8. To make a military reservist economic injury disaster declaration to assist a small business concern that has suffered or that is likely to suffer substantial economic injury as the result of an essential employee of such small business concern being ordered to perform active service, pursuant to Section 7 of the Small Business Act, as amended.

9. To declare an economic injury disaster loan area in response to a determination of an emergency involving Federal primary responsibility by the President.

10. To amend declarations made under authority of paragraphs A.3-A.9 above.

11. This authority may not be redelegated.

II. The authorities delegated herein may be exercised by any SBA employee officially designated as Acting Associate Administrator of the Office of Disaster Recovery and Resilience.

III. The authorities delegated herein can only be revoked or amended by the Administrator and in writing.

Kelly Loeffler,
Administrator.

[FR Doc. 2025-05937 Filed 4-4-25; 8:45 am]

BILLING CODE 8026-09-P